DEPARTMENT OF STATE

[Public Notice 4356]

Shipping Coordinating Committee; Notice of Meeting

The Shipping Coordinating Committee (SHC) will conduct an open meeting at 1 p.m. on Thursday, August 7, 2003, in Room 4438 of the Department of Transportation Headquarters Building, 400 Seventh Street, SW., Washington, DC, 20950. The primary purpose of the meeting is to prepare for the 8th Session of the International Maritime Organization (IMO) Radio Communications and Search and Rescue (COMSAR) of the Subcommittee on Safety of Life at Sea, to be held at IMO Headquarters in London, England from February 16-20, 2004.

Among the items of particular interest are:

• Maritime Safety Information for GMDSS.

• Development of a procedure for recognition of mobile satellite systems.

• Revision of performance standards for NAVTEX equipment.

• Emergency radiocommunications, including false alerts and interference.

• Large passenger ship safety.

• Emergency radiocommunications, including false alerts and interference.

• Issues related to maritime security.

• Developments in maritime radiocommunication systems and technology, including long range tracking.

• Matters concerning Search and Rescue.

• Developments in maritime radiocommunication systems and technology.

• Planning for the 8th session of COMSAR.

Members of the public may attend these meetings up to the seating capacity of the rooms. Interested persons may seek information, including meeting room numbers, by writing Mr. Russell S. Levin, U.S. Coast Guard Headquarters, Commandant (G-SCT-2), Room 6509, 2100 Second Street, SW., Washington, DC 20593-0001; by calling: (202) 267-1389; or by sending Internet electronic mail to rlevin@comdt.uscg.mil.

Dated: July 16, 2003.
Margaret F. Hayes,
Director, Office of Ocean Affairs, Department of State.

[FR Doc. 03-18864 Filed 7-23-03; 8:45 am]

BILLING CODE 4710-07-P